DEPARTMENT OF HOMELAND SECURITY

Federal Emergency Management Agency

[Docket ID FEMA-2020-0016]

Meeting To Implement Pandemic Response Voluntary Agreement Under Section 708 of the Defense Production Act; Correction

AGENCY: Federal Emergency Management Agency, DHS.

ACTION: Announcement of meeting; request for comments; correction.

SUMMARY: The Federal Emergency Management Agency (FEMA) published a document in the Federal Register of October 8, 2020, concerning a meeting announcement and request for comments to implement the Voluntary Agreement for the Manufacture and Distribution of Critical Healthcare Resources Necessary to Respond to a Pandemic. The document contained incorrect timeframes.

FOR FURTHER INFORMATION CONTACT: Robert Glenn, Office of Business, Industry, Infrastructure Integration, via email at OB3I@fema.dhs.gov or via phone at (202) 212-1666.

SUPPLEMENTARY INFORMATION:

Correction

In the Federal Register of October 8, 2020, in FR Doc. 2020-22149 on page 63567, in the second column, correct the “Dates” caption to read:

DATES: The meeting will take place on Tuesday, October 13, 2020, from 2:30 to 4:30 p.m. Eastern Time (ET). The first portion of the meeting, from approximately 2:30 to 3:30 p.m., will be open to the public. Written comments for consideration at the meeting must be submitted and received by 12:00 p.m. ET on Monday, October 12, 2020. To register to attend the meeting or to make remarks during the public comment period of the meeting, contact the individual listed in the FOR FURTHER INFORMATION CONTACT section below by 12:00 p.m. ET on Monday, October 12, 2020.

Dated: October 9, 2020.
Shabnaum Q. Amjad,
Deputy Associate Chief Counsel, Regulatory Affairs Division, Office of Chief Counsel, Federal Emergency Management Agency.

[FR Doc. 2020-22774 Filed 10-9-20; 11:15 am]

BILLING CODE 9111-19-P